DEPARTMENT OF THE TREASURY

Bureau of Alcohol, Tobacco and Firearms

[Docket No. 939; ATF O 1130.28]

Delegation of the Director's Authorities in 27 CFR Parts 45 and 46

To: All Bureau Supervisors.

1. Purpose. This order delegates certain authorities of the Director to subordinate ATF officials and prescribes the subordinate ATF officials with whom persons file documents which are not ATF forms.

2. Background. Under current regulations, the Director has authority to take final action on matters relating to procedure and administration. The Bureau has determined that certain of these authorities should, in the interest of efficiency, be delegated to a lower organizational level.

3. Cancellations. ATF O 1100.106A, Delegation Order—Delegation to the Associate Director (Compliance Operations) of Authorities of the Director in 27 CFR Part 295, Tobacco Products for the United States, dated 4/5/84, and ATF O 1130.24, Delegation Order—Delegation of Certain of the Director's Authorities in Subparts C and I of 27 CFR part 296, dated 9/27/01, are canceled.

4. Delegations. Under the authority vested in the Director, Bureau of Alcohol, Tobacco and Firearms, by Treasury Department Orders No. 120-01 (formerly 221), dated June 6, 1972, and 120-04 (formerly 221-4), dated December 5, 1978, and by 26 CFR 301.7701-9, this ATF order delegates certain authorities to take final action prescribed in 27 CFR Parts 45 and 46 to subordinate officials. Also, this ATF order prescribes the subordinate officials with whom applications, notices, and reports required by 27 CFR parts 45 and 46, which are not ATF forms, are filed. The attached table identifies the regulatory sections, authorities and documents to be filed, and the authorized ATF officials. The authorities in the table may not be redelegated.

5. Questions. If you have questions about this order, contact the Regulations Division (202-927-8210).

Bradley A. Buckles,
Director.

Regulatory section | Officer(s) authorized to act or receive document
§ 45.21 | Chief, Regulations Division, except Chief, Diversion Branch, for removal of tobacco products, without payment of tax, from manufacturer for law enforcement investigations of the United States. If the alternate method or procedure does not affect import or export recordkeeping, Chief, National Revenue Center (NRC), may act upon the same alternate method that has been approved by the Chief, Regulations Division.
§ 45.22 | Director of Industry Operations to approve or withdraw. Area Supervisor to receive application.
§ 45.23 | Inspector, Specialist, Auditor or Special Agent.
§ 45.24 | Inspector, Specialist, Auditor or Special Agent.
§ 45.27 | Chief, Regulations Division.
§ 45.34 | Area Supervisor.
§ 45.36 | Unit Supervisor, NRC.
§ 45.42 | Chief, Regulations Division.
§ 45.51(d) | Inspector, Specialist, Auditor or Special Agent.
§ 46.5(c) | Unit Supervisor, NRC.
§ 46.7 | Unit Supervisor, NRC.
§ 46.8 | Unit Supervisor, NRC, or Area Supervisor.
§ 46.11(b) | Section Chief, NRC.
§ 46.13 | Section Chief, NRC.
§ 46.14 | Section Chief, NRC.
§ 46.15 | Section Chief, NRC.
§ 46.22(a) | Chief, Regulations Division.
§ 46.73 | Unit Supervisor to act on claims of $10,000 or less. Section Chief, NRC, to act on claims of more than $10,000 but not more than $100,000. Chief, NRC, to act on claims of more than $100,000.
§ 46.77 | Unit Supervisor, NRC.
§ 46.78 | Unit Supervisor to act on claims of $10,000 or less. Section Chief, NRC, to act on claims of more than $10,000 but not more than $100,000. Chief, NRC, to act on claims of more than $100,000.
§ 46.79 | To determine if non-ATF supervision was satisfactory, Unit Supervisor if claim is $10,000 or less, Section Chief, NRC, if claim is more than $10,000 but not more than $100,000, or Chief, NRC, if claim more than $100,000. Area Supervisor to assign. Inspector, Specialist, Auditor or Special Agent to supervise.
§ 46.150(b) and (c) | Section Chief, NRC, upon recommendation of Area Supervisor, to approve. Unit Supervisor, NRC, with whom application is filed.
§ 46.153 | Inspector, Specialist, Auditor or Special Agent.
§ 46.164 | Inspector, Specialist, Auditor or Special Agent.
§ 46.165 | Inspector, Specialist, Auditor or Special Agent.
§ 46.242 | Director of Industry Operations.
§ 46.244 | Inspector, Specialist, Auditor or Special Agent.
§ 46.263 | Chief, Regulations Division. If the alternate method or procedure does not affect import or export recordkeeping, Chief, NRC, may act upon the same alternate method that has been approved by the Chief, Regulations Division.
§ 46.264 | Chief, Regulations Division. If the alternate method or procedure does not affect import or export recordkeeping, Chief, NRC, may act upon the same alternate method that has been approved by the Chief, Regulations Division.
§ 46.271 | Inspector, Specialist, Auditor or Special Agent.
§ 46.272 | Director of Industry Operations.
§ 46.273 | Inspector, Specialist, Auditor or Special Agent.

BILLING CODE 4810-31-P

[FR Doc. 02-4387 Filed 2-26-02; 8:45 am]

BILLING CODE 4810-31-C